DEPARTMENT OF COMMERCE

International Trade Administration

[C-570-980]

Crystalline Silicon Photovoltaic Cells, Whether or Not Assembled Into Modules, From the People's Republic of China: Notice of Correction to the Final Results, and Amended Final Results of Countervailing Duty Administrative Review; 2020

AGENCY: Enforcement and Compliance, International Trade Administration, Department of Commerce.

SUMMARY: On July 11, 2023, the U.S. Department of Commerce (Commerce) published in the Federal Register the final results and partial rescission of the administrative review of the countervailing duty (CVD) order on crystalline silicon photovoltaic cells, whether or not assembled into modules (solar cells), from the People's Republic of China (China), covering the period of review (POR) January 1, 2020, through December 31, 2020. That notice inadvertently contained an incorrect rate for Jinko Solar Import and Export Co., Ltd. Further, Commerce is amending the final results to correct ministerial errors in the calculations for Risen Energy Co., Ltd.

DATES: Applicable August 17, 2023.

FOR FURTHER INFORMATION CONTACT: Lingjun Wang, AD/CVD Operations, Office VII, Enforcement and Compliance, International Trade Administration, U.S. Department of Commerce, 1401 Constitution Avenue NW, Washington, DC 20230; telephone: (202) 482-3642.

SUPPLEMENTARY INFORMATION:

Correction

In the Federal Register of July 11, 2023, in FR Doc. 2023-14563, on page 44109, in the Producer/exporter and Subsidy rate (percent ad valorem) table, for Jinko Solar Import and Export Co., Ltd., correct the subsidy rate from 10.33 to 10.34.

Background

Commerce published the final results of this review on July 11, 2023.¹ On July 5, 2023, the American Alliance for Solar Manufacturing (the Alliance) and Risen Energy Co., Ltd. (Risen) each filed a ministerial error comment.² No party filed a rebuttal comment. We are amending the Final Results to correct ministerial errors raised by the Alliance and Risen.

¹ See Crystalline Silicon Photovoltaic Cells, Whether or Not Assembled into Modules, from the People's Republic of China: Final Results and Partial Rescission of Countervailing Duty Administrative Review; 2020, 88 FR 44108 (July 11, 2023) (Final Results), and accompanying Issues and Decision Memorandum.

² See the Alliance's Letter, “Ministerial Error Allegations,” dated July 5, 2023, and Risen's Letter, “Ministerial Error Comments,” dated July 5, 2023.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ³ With respect to final results of administrative reviews, 19 CFR 351.224(e) provides that Commerce “will analyze any comments received and if appropriate, correct any ministerial error by amending . . . the final results of review . . . .”

³ See 19 CFR 351.224(f).

Ministerial Error

Commerce determines that, in accordance with section 751(h) of the Act and 19 CFR 351.224(f), it made ministerial errors in the Final Results. Pursuant to 19 CFR 351.224(e), Commerce is amending the Final Results to reflect the corrections of these ministerial errors in the calculation of the countervailable subsidy rate for Risen from 14.27 percent to 18.95 percent.⁴ For a detailed discussion of Commerce's analysis, see the Ministerial Error Allegations Memorandum.⁵ As a result of these changes, the rate for the non-examined companies, which is the weighted average of Jinko and Risen's amended final rates using their publicly ranged sales values, changes from 12.61 percent to 15.33 percent.⁶

⁴ See Ministerial Error Allegations Memorandum; see also Memorandum, “Amended Final Countervailable Subsidy Rate Calculation for Risen Energy Co., Ltd.,” dated concurrently with this notice (Risen Amended Final Calculation Memorandum).

⁵ See Ministerial Error Allegations Memorandum.

⁶ Risen Amended Final Calculation Memorandum.

Amended Final Results of Review

As a result of correcting the ministerial errors described above, Commerce determines the following net countervailable subsidy rates for the POR, January 1, 2020, through December 31, 2020:

Producer/exporter | Subsidy rate (percent ad valorem)
Jinko Solar Import and Export Co., Ltd.⁷ | 10.34
Risen Energy Co., Ltd.⁸ | 18.95
Non-Examined Companies ⁹ | 15.33

Disclosure

We intend to disclose the calculations performed for these amended final results in accordance with 19 CFR 351.224(b).

⁷ This rate applies to Jinko Solar Import and Export Co., Ltd. and its cross-owned companies: Zhejiang Jinko Solar Co., Ltd.; JinkoSolar Technology (Haining) Co., Ltd.; Jinko Solar Co., Ltd.; Yuhuan Jinko Solar Co., Ltd.; JinkoSolar (Chuzhou) Co., Ltd.; JinkoSolar (Yiwu) Co., Ltd.; JinkoSolar (Shangrao) Co., Ltd.; Xinjiang Jinko Solar Co., Ltd.; JinkoSolar (Sichuan) Co., Ltd.; Jiangxi Jinko Photovoltaic Materials Co., Ltd.; Ruixu Industrial Co., Ltd.; and Jinko Solar (Shanghai) Management Co., Ltd.

⁸ This rate applies Risen Energy Co., Ltd. and its cross-owned companies: Risen Energy (Luoyang) Co., Ltd.; Risen Energy (Wuhai) Co., Ltd.; Risen Energy (Changzhou) Co., Ltd.; Risen Energy (Ningbo) Co., Ltd.; Risen Energy (Yiwu) Co., Ltd.; Zhejiang Boxin Investment Co., Ltd.; Zhejiang Twinsel Electronic Technology Co., Ltd.; Jiangsu Sveck New Material Co., Ltd.; Changzhou Sveck Photovoltaic New Material Co., Ltd. (including Changzhou Sveck Photovoltaic New Material Co., Ltd. Jintan Danfeng Road Branch); Changzhou Sveck New Material Technology Co., Ltd.; Ninghai Risen Energy Power Development Co., Ltd.; Risen (Ningbo) Electric Power Development Co., Ltd.; Changzhou Jintan Ningsheng Electricity Power Co., Ltd.; and Risen (Changzhou) Import and Export Co., Ltd.

⁹ See the appendix to this notice for a list of all companies that remain under review but were not selected for individual examination and to which Commerce has assigned the non-examined company rate.

Assessment Rates

Pursuant to section 751(a)(2)(C) of the Act and 19 CFR 351.212(b)(1), Commerce shall determine, and U.S. Customs and Border Protections (CBP) shall assess, countervailing duties on all appropriate entries of subject merchandise in accordance with the amended final results of this review.

Commerce intends to issue assessment instructions to CBP no earlier than 35 days after the date of publication of these amended final results of this review in the Federal Register. However, Risen has filed a summons at the U.S. Court of International Trade challenging the Final Results. Therefore, our assessment instructions will direct CBP not to liquidate relevant entries until the time for parties to file a request for a statutory injunction has expired (i.e., within 90 days of publication of this notice).

Cash Deposit Requirements

In accordance with section 751(a)(2)(C) of the Act, Commerce also intends to instruct CBP to collect cash deposits of estimated countervailing duties in the amounts shown for the companies subject to this review, effective July 11, 2023, the date of publication of the Final Results in the Federal Register. For all non-reviewed companies, CBP will continue to collect cash deposits of estimated countervailing duties at the most recent company-specific or all-others rate applicable to the company, as appropriate. These cash deposits, when imposed, shall remain in effect until further notice.

Administrative Protective Order

This notice serves as a final reminder to parties subject to an administrative protective order (APO) of their responsibility concerning the destruction of proprietary information disclosed under APO in accordance with 19 CFR 351.305(a)(3). Timely written notification of the return or destruction of APO materials or conversion to a judicial protective order is hereby requested. Failure to comply with the regulations and the terms of an APO is a sanctionable violation.

Notification to Interested Parties

We are issuing and publishing these amended final results of the review in accordance with sections 751(h) and 777(i) of the Act and 19 CFR 351.224(e).

Dated: August 11, 2023.
Lisa W. Wang,
Assistant Secretary for Enforcement and Compliance.

Appendix

Non-Examined Companies Under Review

1. Anji Dasol Solar Energy Science & Technology Co., Ltd.

2. BYD (Shangluo) Industrial Co., Ltd.; Shanghai BYD Co., Ltd.

3. Chint New Energy Technology (Haining) Co., Ltd.

4. Chint Solar (Zhejiang) Co., Ltd.

5. JA Solar (Xingtai) Co., Ltd.

6. JA Solar Technology Yangzhou Co., Ltd.

7. Jiangsu High Hope Int'l Group

8. Jiangsu Huayou International Logistics

9. LONGi Solar Technology Co., Ltd.

10. Shanghai JA Solar Technology Co., Ltd.

11. Shenzhen Sungold Solar Co., Ltd.

12. Suntech Power Co., Ltd.

13. Toenergy Technology Hangzhou Co., Ltd.

14. Trina Solar (Changzhou) Science and Technology Co., Ltd.

15. Trina Solar Co., Ltd.

16. Wuxi Tianran Photovoltaic Co., Ltd.

17. Yingli Energy (China) Co., Ltd.

18. Changzhou Trina Solar Energy Co., Ltd.; Changzhou Trina Solar Yabang Energy Co., Ltd.; Hubei Trina Solar Energy Co., Ltd.; Turpan Trina Solar Energy Co., Ltd.; Yancheng Trina Solar Energy Technology Co., Ltd.; Changzhou Trina PV Ribbon Materials Co., Ltd.

[FR Doc. 2023-17704 Filed 8-16-23; 8:45 am]

BILLING CODE 3510-DS-P